DEPARTMENT OF AGRICULTURE

Forest Service

Dry Fork Vegetation Restoration EIS—Lewis and Clark National Forest

AGENCY: Forest Service, USDA.

ACTION: Notice of intent to prepare an environmental impact statement.

SUMMARY: The Forest Service will prepare an environmental impact statement on a proposal to treat vegetation on approximately 4,100 acres in Cascade and Judith Basin Counties, Montana. An assessment titled Dry Fork Vegetation and Recreation Restoration Environmental Assessment (EA) was completed in August 1999 and a Decision Notice/Finding of No Significant Impact was released on June 15, 2000. On appeal, a portion of the decision dealing with vegetative restoration was reversed. In order to further the purposes of the National Environmental Policy Act and to provide additional disclosure, the analysis will now be revisited and documented in an Environmental Impact Statement (EIS).

DATES: Comments concerning the scope of the analysis, issues, the alternatives, and evaluation of alternatives were received during development of the EA. Although no formal scoping period is proposed for this EIS, comments will be accepted and an opportunity to comment on the draft EIS will be provided.

ADDRESSES: Send written comments to Rick Prausa, Forest Supervisor, Lewis and Clark National Forest, 1101 15th Street North, Box 869, Great Falls, MT 59403. Electronic mail may be sent to comment/rl_lewisclark@fs.fed.us.

FOR FURTHER INFORMATION CONTACT: Jennifer Scheer, EIS Team Leader, (406) 791-7700.

SUPPLEMENTARY INFORMATION: The Forest Service proposes to treat vegetation on approximately 4,100 acres in the Dry Fork of Belt Creek drainage on the Kings Hill Ranger District of the Lewis and Clark National Forest. The entire project area covers about 40,700 acres in the western portion of the Little Belt Mountains. The purpose of the proposed action is to move the condition of the area's forest and grasslands in a direction more closely approximated under natural conditions in which fire succession played a larger role. In addition, the proposed action will reduce the risk of large wildfire by reducing fuel accumulation. The previous EA considered, in detail, five alternatives for vegetative treatment. This EIS will include those alternatives, but will replace Alternative 5 in the EA with the modified alternative previously identified for selection in the decision notice. The alternatives evaluate a variety of treatment methods, including timber harvest, prescribed burning, road construction or reconstruction, and road closure to address issues and concerns in the project area.

Decisions To Be Made: The Forest Supervisor will decide whether and where vegetative treatment activities would take place in the project area. He will decide the number of acres, if any, on which treatment would take place and the types of treatment methods to be used. He will decide when any management activities would take place, what mitigation measures would be implemented to address concerns, and whether the action requires amendment(s) to the Lewis and Clark Forest Plan.

Responsible Official: Rick Prausa, Forest Supervisor, is the Responsible Official for making the decision to implement any of the alternatives evaluated. He will document his decision and rationale in a Record of Decision.

Preliminary Issues: Issues associated with vegetative treatments that were identified during scoping and development of the Environmental Assessment include impacts of proposed activities on wildlife and fish species and their habitat, soil resources, water quality and water yield, and forest health.

Public Involvement, Rationale, and Public Meetings: Initial scoping for this project began in April 1998. A letter was sent to 376 individuals requesting comment on the proposed action. Public participation, including public meetings, field trips, and community involvement, occurred throughout the development of the EA. Comments were received on the EA and an opportunity provided for appeal of the decision. A portion of the decision resulting from the EA was reversed on appeal. As scoping on this proposal has already taken place during development of the EA, no formal scoping period or public meetings on the proposal are being considered at this time, however, public participation in this analysis is welcome at any time. Documenting the analysis in an Environmental Impact Statement provides an opportunity to strengthen the analysis and allow for additional public review and comment. A 45-day review period for comments on the Draft EIS will be provided. Comments received will be considered and included in documentation of the Final EIS. The public is encouraged to take part in the process and to visit with Forest Service officials at any time during the analysis and prior to the decision. The Forest Service has sought and will continue to seek information, comments and assistance from Federal, State and local agencies and other individuals or organizations who may be interested in, or affected by, the proposed action.

Electronic Access and Filing Addresses: Comments may be sent by electronic mail (e-mail) to comment/r1_lewisclark@fs.fed.us. Please reference the Dry Fork Vegetation Restoration EIS on the subject line. Also, include your name and mailing address with your comments so documents pertaining to this project may be mailed to you.

Estimated Dates for Filing: The Draft EIS is expected to be filed with the Environmental Protection Agency (EPA) and to be available for public review by December, 2000. At that time EPA will publish a Notice of Availability of the draft EIS in the Federal Register. The comment period on the draft EIS will be 45 days from the date the EPA publishes the Notice of Availability in the Federal Register. It is very important that those interested in the management of this area participate at that time.

The final EIS is scheduled to be completed by March, 2001. In the final EIS, the Forest Service is required to respond to comments received during the comment period that pertain to the environmental consequences of the action, as well as those pertaining to applicable laws, regulations, and policies. These will be considered in making a decision regarding the proposal.

The Reviewers Obligation To Comment: The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. versus NRDC, 435 U.S. 519, 533 (1978). Also, environmental objections that could be raised at the draft environmental impact statement stage but that are not raised until after completion of the final environmental impact statement may be waived or dismissed by the courts. Wisconsin Heritages, Inc. versus Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: October 11, 2000.
Robin Strathy,
Acting Lewis and Clark Forest Supervisor.

[FR Doc. 00-29476 Filed 11-16-00; 8:45 am]

BILLING CODE 3410-11-M